DEPARTMENT OF ENERGY

Federal Energy Regulatory Commission

Combined Notice of Filings

Take notice that the Commission has received the following Natural Gas Pipeline Rate and Refund Report filings:

Filings Instituting Proceedings

Docket Numbers: PR15-13-001.

Applicants: Pacific Gas and Electric Company.

Description: Submits tariff filing per 284.123(b)(1),: Amendment to SOC to be effective 1/1/2015; Filing Type: 1000.

Filed Date: 10/15/15.

Accession Number: 20151015-5304.

Comments/Protests Due: 5 p.m. ET 10/29/15.

Docket Numbers: RP16-53-000.

Applicants: Perryville Gas Storage LLC.

Description: Section 4(d) Rate Filing: Perryville Gas Storage—August 2015 Tariff Modifications to be effective 11/16/2015.

Filed Date: 10/15/15.

Accession Number: 20151015-5147.

Comments Due: 5 p.m. ET 10/27/15.

Docket Numbers: RP16-54-000.

Applicants: Equitrans, L.P.

Description: Section 4(d) Rate Filing: AVC ADIT PLR to be effective 12/1/2015.

Filed Date: 10/15/15.

Accession Number: 20151015-5209.

Comments Due: 5 p.m. ET 10/27/15.

Docket Numbers: RP16-55-000.

Applicants: High Island Offshore System, L.L.C.

Description: Compliance filing Administrative Refile to be effective 10/15/2015.

Filed Date: 10/15/15.

Accession Number: 20151015-5217.

Comments Due: 5 p.m. ET 10/27/15.

Docket Numbers: RP16-56-000.

Applicants: High Island Offshore System, L.L.C.

Description: Tariff Cancellation: Cancellation to be effective 10/15/2015.

Filed Date: 10/15/15.

Accession Number: 20151015-5224.

Comments Due: 5 p.m. ET 10/27/15.

Docket Numbers: RP16-57-000.

Applicants: Monroe Gas Storage Company, LLC.

Description: Section 4(d) Rate Filing: Monroe Gas Storage—August 2015 Tariff Modifications to be effective 11/16/2015.

Filed Date: 10/15/15.

Accession Number: 20151015-5231.

Comments Due: 5 p.m. ET 10/27/15.

Docket Numbers: RP16-58-000.

Applicants: Texas Eastern Transmission, LP.

Description: Compliance filing TETLP OFO 2015 Penalty Disbursement Report.

Filed Date: 10/15/15.

Accession Number: 20151015-5254.

Comments Due: 5 p.m. ET 10/23/15.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP08-426-019.

Applicants: El Paso Natural Gas Company, L.L.C.

Description: El Paso Natural Gas Company, L.L.C. submits tariff filing per 154.501: Refund Report.

Filed Date: 9/30/15.

Accession Number: 20150930-5177.

Comments Due: 5 p.m. ET 10/22/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2015.
Nathaniel J. Davis, Sr.,
Deputy Secretary.

[FR Doc. 2015-27181 Filed 10-26-15; 8:45 am]

BILLING CODE 6717-01-P